DEPARTMENT OF EDUCATION

National Advisory Committee on Institutional Quality and Integrity Meeting

AGENCY: National Advisory Committee on Institutional Quality and Integrity (NACIQI), Office of Postsecondary Education, U.S. Department of Education.

ACTION: Announcement of an open meeting.

SUMMARY: This notice sets forth the agenda, time, and instructions to access or participate in the March 3-5, 2021 meeting of the National Advisory Committee on Institutional Quality and Integrity (NACIQI) and provides information to members of the public regarding the meeting, including requesting to make oral comments. The notice of this meeting is required under section 10(a)(2) of the Federal Advisory Committee Act (FACA) and section 114(d)(1)(B) of the Higher Education Act (HEA) of 1965, as amended.

DATES: The NACIQI meeting will be held on March 3-5, 2021, from 9:00 a.m. to 5:00 p.m. each day.

ADDRESSES: The NACIQI meeting will be held virtually. See the SUPPLEMENTARY INFORMATION for information on how to register.

FOR FURTHER INFORMATION CONTACT: George Alan Smith, Executive Director/Designated Federal Official, NACIQI, U.S. Department of Education, 400 Maryland Avenue SW, Room 271-03, Washington, DC 20202, telephone: (202) 453-7757, or email: George.Alan.Smith@ed.gov.

SUPPLEMENTARY INFORMATION: Please note that a notice setting forth the agenda, time, and instructions to access or participate in a meeting of the NACIQI on February 24-25, 2021 was posted for public inspection by the Federal Register on January 27, 2021. At the Department's request, that notice has been withdrawn, and this notice provides information about the NACIQI meeting, which has been rescheduled to March 3-5, 2021.

Web links: You may register for the meeting on your computer with each day's designated entry link, after which you will receive an email containing personalized dial-in details, access code, and meeting web link.

Wednesday, March 3, 2021

You must pre-register at https://ems8.intellor.com?do=register&t=1&p=836514 to receive a join link, dial-in number, access code, and unique Attendee ID for the event.

Thursday, March 4, 2021

You must pre-register at https://ems8.intellor.com?do=register&t=1&p=836280 to receive a join link, dial-in number, access code, and unique Attendee ID for the event.

Friday, March 5, 2021

You must pre-register at https://ems8.intellor.com?do=register&t=1&p=836281 to receive a join link, dial-in number, access code, and unique Attendee ID for the event.

NACIQI's Statutory Authority and Function: NACIQI is established under section 114 of the HEA. NACIQI advises the Secretary of Education with respect to:

• The establishment and enforcement of the standards of accrediting agencies or associations under subpart 2, part H, Title IV of the HEA, as amended.

• The recognition of specific accrediting agencies or associations.

• The preparation and publication of the list of nationally recognized accrediting agencies and associations.

• The eligibility and certification process for institutions of higher education under Title IV of the HEA and part C, subchapter I, chapter 34, Title 42, together with recommendations for improvement in such process.

• The relationship between (1) accreditation of institutions of higher education and the certification and eligibility of such institutions, and (2) State licensing responsibilities with respect to such institutions.

• Any other advisory function relating to accreditation and institutional eligibility that the Secretary of Education may prescribe by regulation.

Meeting Agenda: Agenda items for the March 3-5, 2021, meeting are listed below.

Application for Renewal of Recognition

1. Association of Institutions of Jewish Studies. Scope of Recognition: The accreditation of postsecondary institutions of Jewish Studies within the United States exclusively offering educational programs leading to a certificate, associate degree, baccalaureate degree or their equivalent credential in Jewish Studies or Classical Torah Studies.

2. American Speech-Language-Hearing Association, Council on Academic Accreditation in Audiology and Speech-Language Pathology. Scope of Recognition: The accreditation and preaccreditation (Accreditation Candidate) throughout the United States of education programs in audiology and speech-language pathology leading to the first professional or clinical degree at the master's or doctoral level, and the accreditation of these programs offered via distance education.

3. American Board of Funeral Service Education, Committee on Accreditation. Scope of Recognition: The accreditation of institutions and programs within the United States awarding diplomas, associate degrees and bachelor's degrees in funeral service or mortuary science, including the accreditation of distance learning courses and programs offered by these programs and institutions.

4. Council on Naturopathic Medical Education. Scope of Recognition: The accreditation and preaccreditation throughout the United States of graduate-level, four-year naturopathic medical education programs leading to the Doctor of Naturopathic Medicine (NMD) or Doctor of Naturopathy (ND).

5. Commission on Massage Therapy Accreditation. Scope of Recognition: The accreditation of institutions and programs in the United States that award postsecondary certificates, postsecondary diplomas, academic Associate degrees and occupational Associate degrees, in the practice of massage therapy, bodywork, and aesthetics/esthetics and skin care.

6. Montessori Accreditation Council for Teacher Education. Scope of Recognition: The accreditation of Montessori teacher education institutions and programs throughout the United States, including those offered via distance education.

7. Midwifery Education Accreditation Council. Scope of Recognition: The accreditation and pre-accreditation throughout the United States of direct-entry midwifery educational institutions and programs conferring degrees and certificates, including the accreditation of such programs offered via distance education.

8. National Accrediting Commission of Career Arts and Sciences Inc., Scope of Recognition: The accreditation throughout the United States of postsecondary schools and departments of cosmetology arts and sciences and massage therapy.

Compliance Report Under 34 CFR 602.31(c)

Accrediting Council for Independent Colleges and Schools (ACICS)

Pursuant to the November 21, 2018 Decision of the Secretary, Docket No. 16-44-0 (available at https://surveys.ope.ed.gov/erecognition/PublicDocuments under NACIQI meeting date: 6/23/2016 for ACICS), ACICS submitted a compliance report on December 19, 2019 on issues identified in the Decision related to the agency's compliance with criteria in 34 CFR 602.15(a)(2) and (6). The Department staff's review has identified continued noncompliance with 34 CFR 602.15(a)(2). The ACICS compliance report was originally scheduled for the July 2020 NACIQI meeting, but the Department published a notice in the Federal Register on June 25, 2020 (85 FR 38132; Document Number 2020-13286), announcing that it was rescheduled for the February 2021 NACIQI meeting.

Inquiries Under 34 CFR 602.33

1. ACICS

a. 34 CFR 602.33 review in response to ACICS monitoring report. Pursuant to the November 21, 2018 Decision of the Secretary, Docket No. 16-44-0 (available at https://surveys.ope.ed.gov/erecognition/PublicDocuments under NACIQI meeting date: 06/23/2016 for ACICS), ACICS submitted a monitoring report on issues identified in the Decision related to the agency's compliance with the Criteria in 34 CFR 602.15(a)(1), 602.16(a)(1)(i) and (vii), and 602.19(b). In its review of the monitoring report, the Department staff noted that one or more deficiencies may exist in the agency's compliance with the Secretary's Criteria for Recognition or the agency's effective application of those Criteria, and therefore processed the monitoring report in accordance with the review procedures set forth in 34 CFR 602.33. The review has identified noncompliance with the Criteria in 34 CFR 602.15(a)(1) and 602.19(b).

b. 34 CFR 602.33 review initiated by inquiry letter dated June 19, 2019 (letter available at https://www.ed.gov/accreditation/acics). The initiation of the review was based on information from media coverage of ACICS's presentation to the Council for Higher Education Accreditation concerning its financial situation and its review of two institutions, Virginia International University and San Diego University for Integrative Studies. The review has identified noncompliance with the Criteria in 34 CFR 602.15(a)(1), 602.16(c), and 602.17(c) and (e). It should be noted that the new accreditation regulations effective July 1, 2020 changed § 602.16(c) to § 602.16(d). There are no substantive changes to these two paragraphs of § 602.16, just a change in the paragraph lettering.

c. 34 CFR 602.33 review initiated by inquiry letter dated February 24, 2020 (letter available at https://www.ed.gov/accreditation/acics). The initiation of the review was based on information from media coverage alleging that ACICS accredited Reagan National University, an institution not actually in operation. The review has identified noncompliance with the Criteria in 34 CFR 602.15(a)(1) and (2), 602.17(c), 602.18(c), and 602.19(b). It should be noted that the new regulations effective July 1, 2020 changed § 602.18(c) to § 602.18(b)(3). There are no relevant substantive changes to these two paragraphs of § 602.18, just a change in the paragraph lettering.

Subcommittee on Student Success

The subcommittee will provide an interim report on its work that focuses on § 602.16, Accreditation and preaccreditation standards, paragraph (a)(1)(i).

Submission of requests to make an oral comment regarding a specific accrediting agency under review, or to make an oral comment or written statement regarding other issues within the scope of NACIQI's authority: Opportunity to submit a written statement regarding a specific accrediting agency under review was solicited by previous Federal Register notices published on March 4, 2020 (85 FR 12778; Document Number 2020-04410), May 5, 2020 (85 FR 32031; Document Number 2020-11372), June 9, 2020 (85 FR 35295; Document Number 2020-12351), and November 5, 2020 (85 FR 70594: Document Number 2020-24595). The period for submission of such statements is now closed. Additional written comments regarding a specific agency or state approval agency under review will not be accepted at this time. However, members of the public may submit written statements regarding other issues within the scope of NACIQI's authority for consideration by NACIQI in the manner described below. Oral comments may not exceed three minutes.

Oral comments about an agency's recognition when a compliance report has been required by the senior Department official or the Secretary must relate to the criteria for recognition cited in the senior Department official's letter that requested the report, or in the Secretary's appeal decision, if any. Oral comments about an agency seeking expansion of scope must be directed to the agency's ability to serve as a recognized accrediting agency with respect to the kinds of institutions or programs requested to be added. Oral comments about the renewal of an agency's recognition must relate to its compliance with the Criteria for the Recognition of Accrediting Agencies, which are available at http://www.ed.gov/admins/finaid/accred/index.html. Written statements and oral comments concerning NACIQI's work outside of a specific accrediting agency under review must be limited to the scope of NACIQI's authority as outlined under section 114 of the HEA.

To request to make a third-party oral comment of three minutes or less during the March 3-5, 2021 meeting, please follow either Method One or Method Two. To submit a written statement to NACIQI concerning its work outside a specific accrediting agency under review, please follow Method One.

Method One: Submit a request by email to the ThirdPartyComments@ed.gov mailbox. Please do not send material directly to NACIQI members. Written statements to NACIQI concerning its work outside a specific accrediting agency under review and requests to make oral comment must be received by February 17, 2021 and include the subject line “Oral Comment Request: (agency name),” “Oral Comment Request: (subject)” or “Written Statement: (subject).” The email must include the name(s), title, organization/affiliation, mailing address, email address, telephone number, of the person(s) submitting a written statement or requesting to speak, and a brief summary (not to exceed one page) of the principal points to be made during the oral presentation, if applicable. All individuals submitting an advance request in accordance with this notice will be afforded an opportunity to speak.

Method Two: Register on the day the meeting begins, March 3, 2021, from 7:45 a.m.-8:45 a.m., to make an oral comment during NACIQI's deliberations, using the designated link for Wednesday, March 3, 2021 listed earlier in this notice. The requestor must provide the subject on which he or she wishes to comment, in addition to his or her name, title, organization/affiliation, mailing address, email address, and telephone number. A total of up to fifteen minutes for each agenda item will be allotted for oral commenters who register on March 3, 2021 by 8:45 a.m. Individuals will be selected on a first-come, first-served basis. If selected, each commenter may not exceed three minutes.

Access to Records of the Meeting: The Department will post the official report of the meeting on the NACIQI website within 90 days after the meeting. In addition, pursuant to the FACA, the public may request to inspect records of the meeting at 400 Maryland Avenue SW, Washington, DC, by emailing aslrecordsmanager@ed.gov or by calling (202) 453-7415 to schedule an appointment. Senior Department official's (as defined in 34 CFR 602.3) decisions pursuant to 34 CFR 602.36 associated with all NACIQI Meetings can be found at the following website: https://surveys.ope.ed.gov/erecognition/PublicDocuments.

Reasonable Accommodations: The meeting dial-in information and weblink are accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: 20 U.S.C. 1011c.

Tiwanda Burse,
Deputy Assistant Secretary for Management & Planning, Office of Postsecondary Education.

[FR Doc. 2021-02106 Filed 1-29-21; 8:45 am]

BILLING CODE 4000-01-P